DEPARTMENT OF HOMELAND SECURITY

Coast Guard

33 CFR Part 117

[Docket No. USCG-2016-1008]

Drawbridge Operation Regulation; Great Channel, New Jersey Intracoastal Waterway, Stone Harbor, NJ

AGENCY: Coast Guard, DHS.

ACTION: Notice of deviation from drawbridge regulation.

SUMMARY: The Coast Guard has issued a temporary deviation from the operating schedule that governs the Stone Harbor Boulevard (CR657) Bridge across the Great Channel, mile 102.0, New Jersey Intracoastal Waterway, at Stone Harbor, NJ. This deviation is necessary to avoid bridge failure and perform emergency bridge repairs. This deviation allows the bridge to remain in the closed-to-navigation position.

DATES: This deviation is effective without actual notice from November 14, 2016 through 4 p.m. on December 2, 2016. For the purposes of enforcement, actual notice will be used from November 8, 2016, until November 14, 2016.

ADDRESSES: The docket for this deviation, [USCG-2016-1008] is available at http://www.regulations.gov. Type the docket number in the “SEARCH” box and click “SEARCH”. Click on Open Docket Folder on the line associated with this deviation.

FOR FURTHER INFORMATION CONTACT: If you have questions on this temporary deviation, call or email Mr. Hal R. Pitts, Bridge Administration Branch Fifth District, Coast Guard, telephone 757-398-6222, email Hal.R.Pitts@uscg.mil.

SUPPLEMENTARY INFORMATION: The County of Cape May, NJ, that owns and operates the Stone Harbor Boulevard (CR657) Bridge across the Great Channel, mile 102.0, New Jersey Intracoastal Waterway, at Stone Harbor, NJ, has requested a temporary deviation from the current operating regulations to avoid bridge failure and perform emergency repairs to the bridge, due to a serious crack in one of two main bridge girders, causing the bridge to be unsafe for vehicular traffic and movement of the bascule spans. The bridge is a bascule drawbridge and has a vertical clearance in the closed position of 10 feet above mean high water.

The current operating schedule is set out in 33 CFR 117.733(h). Under this temporary deviation, the bridge will remain in the closed-to-navigation position until 4 p.m. on December 2, 2016.

The Great Channel, New Jersey Intracoastal Waterway is used by a variety of vessels including small public vessels, small commercial vessels, tug and barge traffic, and recreational vessels. The Coast Guard has carefully considered the nature and volume of vessel traffic on the waterway in publishing this temporary deviation.

Vessels able to safely pass through the bridge in the closed position may do so at any time. The bridge will not be able to open for emergencies and there is no immediate alternate route for vessels to pass. The Coast Guard will also inform the users of the waterways through our Local and Broadcast Notices to Mariners of the change in operating schedule for the bridge so that vessel operators can arrange their transit to minimize any impact caused by the temporary deviation.

In accordance with 33 CFR 117.35(e), the drawbridge must return to its regular operating schedule immediately at the end of the effective period of this temporary deviation. This deviation from the operating regulations is authorized under 33 CFR 117.35.

Dated: November 8, 2016.
Hal R. Pitts,
Bridge Program Manager, Fifth Coast Guard District.

[FR Doc. 2016-27281 Filed 11-10-16; 8:45 am]

BILLING CODE 9110-04-P